DEPARTMENT OF ENERGY

Federal Energy Regulatory Commission

[Project No. 2150-033]

Puget Sound Energy; Notice of Meeting on Baker River Project Relicensing Legal Working Group

June 4, 2004.

The Commission hereby gives notice that members of its staff will participate by telephone with the Legal Working Group of the Baker River Relicensing Collaborative on June 7, 2004, from 10 a.m. to 3 p.m (P.s.t.). The meeting will be held in the conference room of the Mercato Ristorante, 111 Market Street, NE., 1st Floor Olympia, Washington. The purpose of the meeting is to discuss on-going settlement negotiations for the Baker River Project No. 2150. Topics to be discussed include aquatic issues, the Agreement in Principle, the possibility of requesting the Commission to designate non-decisional staff, and a review of the request for a revised schedule. The meeting is open to the public. Parties interested in further information about the meeting may contact Connie Freeland, Puget Sound Energy, at (425) 462-3556, or Keith Brooks at (202) 502-8174 at FERC.

During the course of the meeting, it is possible that the discussion may address matters pending in the above-captioned docket.

Linda Mitry,
Acting Secretary.

[FR Doc. E4-1312 Filed 6-9-04; 8:45 am]

BILLING CODE 6717-01-P